CONSUMER PRODUCT SAFETY COMMISSION

[Docket No. CPSC-2009-0102]

Submission for OMB Review; Comment Request— Follow-Up Activities for Product-Related Injuries

AGENCY: Consumer Product Safety Commission.

ACTION: Notice.

SUMMARY: Pursuant to the Paperwork Reduction Act of 1995 (44 U.S.C. Chapter 35), the Consumer Product Safety Commission (Commission or CPSC) announces that it has submitted to the Office of Management and Budget (OMB) a request for extension of approval of a collection of information from persons who have been involved in or have witnessed incidents associated with consumer products.

DATES: Written comments on this request for extension of approval of information collection requirements should be submitted by August 19, 2013.

ADDRESSES: OMB recommends that written comments be faxed to the Office of Information and Regulatory Affairs, OMB, Attn: CPSC Desk Officer, FAX: 202-395-6974, or emailed to oira_submission@omb.eop.gov. All comments should be identified by Docket No. CPSC-2009-0102. In addition, written comments also should be submitted at http://www.regulations.gov, under Docket No. CPSC-2009-0102, or by mail/hand delivery/courier (for paper, disk, or CD-ROM submissions), preferably in five copies, to: Office of the Secretary, U.S. Consumer Product Safety Commission, Room 820, 4330 East West Highway, Bethesda, MD 20814; telephone (301) 504-7923. For access to the docket to read background documents or comments received, go to http://www.regulations.gov.

FOR FURTHER INFORMATION CONTACT: Robert H. Squibb, U.S. Consumer Product Safety Commission, 4330 East West Highway, Bethesda, MD 20814; telephone: 301-504-7923 or by email to rsquibb@cpsc.gov.

SUPPLEMENTARY INFORMATION: In the Federal Register of May 7, 2013 (78 FR 26618), the Consumer Product Safety Commission (CPSC or Commission) published a notice in accordance with provisions of the Paperwork Reduction Act of 1995 (44 U.S.C. chapter 35) to announce the CPSC's intention to seek extension of approval of a collection of information on product-related injuries or incidents. No comments were received in response to that notice. Therefore, by publication of this notice, the Commission announces that it has submitted to the Office of Management and Budget (OMB) a request for extension of approval of that collection of information without change.

A. Background

Section 5(a) of the Consumer Product Safety Act, 15 U.S.C. 2054(a), requires the Commission to collect information related to the causes and prevention of death, injury, and illness associated with consumer products. That section also requires the Commission to conduct continuing studies and investigations of deaths, injuries, diseases, other health impairments, and economic losses resulting from accidents involving consumer products.

The Commission obtains information about product-related deaths, injuries, and illnesses from a variety of sources, including newspapers, death certificates, consumer complaints, and medical facilities. In addition, the Commission receives information through its Internet Web site through forms reporting on product-related injuries or incidents.

The Commission also operates a surveillance system known as the National Electronic Injury Surveillance System (NEISS) that provides timely data on consumer product-related injuries treated as well as U.S. childhood poisonings. NEISS data comes from a statistically valid sample from approximately 100 hospital emergency departments. The NEISS system has been in operation since 1971. NEISS emergency department records are reviewed by hospital employees or contractors (NEISS coders).

From these sources, Commission staff selects cases of interest for further investigation by face-to-face or telephone interviews with persons who witnessed, or were injured in, incidents involving consumer products. On-site investigations are usually made in cases where Commission staff needs photographs of the incident site, the product involved, or detailed information about the incident. This information can come from face-to-face interviews with persons who were injured or who witnessed the incident, as well as contact with state and local officials, including police, coroners, and fire investigators, and others with knowledge of the incident.

The Commission uses the information to support the development and improvement of voluntary standards; rulemaking proceedings; information and education campaigns; compliance and enforcement efforts and related administrative and judicial proceedings. Commission activities are, in many cases, data driven, and incident data is crucial in advancing the agency's mission.

OMB approved the collection of information concerning product-related injuries under control number 3041-0029. OMB's most recent extension of approval will expire on July 31, 2013. The Commission requests an extension of approval of this collection of information.

B. NEISS Estimated Burden

The NEISS system collects information on consumer-product related injuries from about 100 hospitals in the U.S. Respondents to NEISS include hospitals that directly report information to NEISS, and hospitals that allow CPSC contractors to collect the data on behalf of the agency. In FY 2012, there were a maximum of 150 NEISS contracts (total hospitals and CPSC contractors). NEISS coders collect and review all emergency records daily or weekly. During that year, NEISS coders reviewed an estimated 4.6 million emergency department records and reported approximately 400,000 consumer-product related injuries, of which 5,100 were childhood poisoning-related injuries. Each record takes approximately 15 seconds to review. Coding and reporting records that involve consumer product related injuries takes approximately 2.5 minutes per record. NEISS coders also spend about 36 hours per year in related activities (training, evaluations, and communicating with doctors and nurses if more detailed information is needed).

The total burden hours for collecting, reviewing and coding incident records and reports during FY 2012 are estimated to be 41,300. The average burden hour per hospital for FY 2012 is approximately 430 hours; however, the total burden hour on each hospital varies due to differences in size of the hospital (e.g., small rural hospitals versus large metropolitan hospitals). For example, the smallest hospital reported approximately 150 cases with a burden of about 50 hours, while the largest hospital reported more than 17,500 cases with a burden of almost 1,400 hours.

The total contract costs for NEISS in FY 2012 are $1.7 million. Based on FY 2012 data, the average cost per respondent is estimated to be about $17,600. The average cost per burden hour is estimated to be $41 per hour (including wages and overhead); however, the actual cost to each respondent varies due to the type of respondent (hospital versus CPSC contractor), size of hospital, and regional differences in wages and overhead. Thus, the actual annual cost for any given respondent may vary between $1,000 at a small rural hospital and $78,000 at a large metropolitan hospital.

C. Other Burden Hours

In cases that require more information regarding product-related incidents or injuries, the staff conducted face-to-face interviews of approximately 550 persons during FY 2012. Such interviews may take place with the injured party, or a witness to the incident. On average, each on-site interview took about 4.5 hours. In FY 2012 Commission staff also conducted about 3700 in-depth investigations by telephone from the injured party or, in the case of a minor, the parents or guardian. Each such in-depth telephone investigation required approximately 20 minutes. Based on the FY 2012 data, staff estimates that this collection of information imposes a total annual hourly burden of 3,708 hours on all respondents: 2,475 hours for face-to-face interviews and 1,233 hours for in-depth telephone interviews. Commission staff estimates the value of the time required for reporting is $27.12 an hour (U.S. Bureau of Labor Statistics, “Employer Costs for Employee Compensation,” December 2012, Table 9, Total compensation for all sales and office workers in goods-producing industries: http://www.bls.gov/ncs). At this valuation, the estimated annual cost of the burden hours to the public is about $100,570.

This request for the approval of an estimated 45,008 (41,300 NEISS and 3,708 other) burden hours per year is a decrease of 4,697 hours since this collection of information was last approved by OMB in 2009. This decrease is due, in part, to the increased proportion of investigations being conducted by phone rather than on-site. In addition, to avoid duplication, this information collection request excludes the burden now associated with other publicly available Consumer Product Safety Information Databases, such as Internet complaints, Hotline, and the Medical Examiner and Coroners Alert Project reports. These information collections have been approved by OMB and are now collected under OMB Control No. 3041-0146.

The annual cost to the government of the information collection is estimated to be $3.3 million a year. This estimate includes approximately $1.7 million in contract costs to NEISS respondents (based on FY 2012 data). This estimate also includes $1.6 million for approximately 160 Commission staff months each year. The estimate of staff months includes the time required to oversee NEISS operations (e.g., administration, training, quality control); conduct face-to-face and telephone interviews; and evaluate responses. Each month of professional staff time costs the Commission about $10,175. This is based on a GS-12 mid-level salaried employee. The average yearly wage rate for a mid-level salaried GS-12 employee in the Washington, DC metropolitan area (effective as of January 2011) is $84,855 (GS-12, step 5). This represents 69.5 percent of total compensation (U.S. Bureau of Labor Statistics, “Employer Costs for Employee Compensation,” December 2012, Table 1, percentage of wages and salaries for all civilian management, professional, and related employees: http://www.bls.gov/ncs/). Adding an additional 30.5 percent for benefits brings average yearly compensation for a mid-level salaried GS-12 employee to $122,094.

Dated: July 15, 2013.
Todd A. Stevenson,
Secretary, Consumer Product Safety Commission.

[FR Doc. 2013-17248 Filed 7-17-13; 8:45 am]

BILLING CODE 6355-01-P